DEPARTMENT OF ENERGY

Federal Energy Regulatory Commission

Combined Notice of Filings #1

Take notice that the Commission received the following electric corporate filings:

Docket Numbers: EC22-114-000.

Applicants: Pay Less Energy, LLC, City Power & Gas, LLC.

Description: Joint Application for Authorization Under section 203 of the Federal Power Act of Pay Less Energy, LLC, et al.

Filed Date: 8/26/22.

Accession Number: 20220826-5210.

Comment Date: 5 p.m. ET 9/16/22.

Take notice that the Commission received the following exempt wholesale generator filings:

Docket Numbers: EG22-211-000.

Applicants: Clearwater Energy Resources LLC.

Description: Clearwater Energy Resources LLC submits Notice of Self-Certification of Exempt Wholesale Generator Status.

Filed Date: 8/29/22.

Accession Number: 20220829-5128.

Comment Date: 5 p.m. ET 9/19/22.

Take notice that the Commission received the following electric rate filings:

Docket Numbers: ER20-1734-003.

Applicants: Alabama Power Company.

Description: Compliance filing: Order No. 864 OATT Further Compliance Filing to be effective 1/27/2020.

Filed Date: 8/29/22.

Accession Number: 20220829-5137.

Comment Date: 5 p.m. ET 9/19/22.

Docket Numbers: ER21-263-000.

Applicants: Startrans IO, LLC.

Description: Refund Report: Refund Report (Dkt. ER21-263) to be effective N/A.

Filed Date: 8/29/22.

Accession Number: 20220829-5113.

Comment Date: 5 p.m. ET 9/19/22.

Docket Numbers: ER21-378-002.

Applicants: Mississippi Power Company.

Description: Compliance filing: Gulf States TFA Order No. 864 Further Compliance Filing to be effective 1/27/2020.

Filed Date: 8/29/22.

Accession Number: 20220829-5101.

Comment Date: 5 p.m. ET 9/19/22.

Docket Numbers: ER22-1974-001.

Applicants: Evergy Kansas Central, Inc.

Description: Tariff Amendment: Response to Deficiency Letters to be effective 8/1/2022.

Filed Date: 8/29/22.

Accession Number: 20220829-5021.

Comment Date: 5 p.m. ET 9/19/22.

Docket Numbers: ER22-1975-001.

Applicants: Evergy Kansas Central, Inc.

Description: Tariff Amendment: Evergy Response to Deficiency Letters to be effective 8/1/2022.

Filed Date: 8/29/22.

Accession Number: 20220829-5018.

Comment Date: 5 p.m. ET 9/19/22.

Docket Numbers: ER22-1976-001.

Applicants: Evergy Generating, Inc.

Description: Tariff Amendment: Response to Deficiency Letters to be effective 8/1/2022.

Filed Date: 8/29/22.

Accession Number: 20220829-5025.

Comment Date: 5 p.m. ET 9/19/22.

Docket Numbers: ER22-2083-002.

Applicants: Evergy Kansas Central, Inc., Southwest Power Pool, Inc.

Description: Tariff Amendment: Evergy Kansas Central, Inc. submits tariff filing per 35.17(b): Deficiency Response—Evergy Kansas Central & Evergy Kansas South FRT Revisions to be effective 8/1/2022.

Filed Date: 8/29/22.

Accession Number: 20220829-5054.

Comment Date: 5 p.m. ET 9/19/22.

Docket Numbers: ER22-2444-001.

Applicants: ITC Midwest LLC.

Description: Tariff Amendment: Amendment to Filing of Agreements with Independence Light & Power Company to be effective 9/19/2022.

Filed Date: 8/29/22.

Accession Number: 20220829-5093.

Comment Date: 5 p.m. ET 9/19/22.

Docket Numbers: ER22-2734-000.

Applicants: Arizona Public Service Company.

Description: § 205(d) Rate Filing: Rate Schedule No. 312, Orchard-N. Gila Interconnection Agreement to be effective 10/26/2022.

Filed Date: 8/26/22.

Accession Number: 20220826-5177.

Comment Date: 5 p.m. ET 9/16/22.

Docket Numbers: ER22-2735-000.

Applicants: Persimmon Creek Wind Farm 1, LLC.

Description: § 205(d) Rate Filing: Filing of First Amended and Restated Common Facilities Agreement. to be effective 8/29/2022.

Filed Date: 8/26/22.

Accession Number: 20220826-5179.

Comment Date: 5 p.m. ET 9/16/22.

Docket Numbers: ER22-2736-000.

Applicants: Moss Landing Energy Storage 3, LLC.

Description: Baseline eTariff Filing: Application for Market-Based Rate Authorization, Request for Related Waivers to be effective 10/1/2022.

Filed Date: 8/29/22.

Accession Number: 20220829-5033.

Comment Date: 5 p.m. ET 9/19/22.

Docket Numbers: ER22-2737-000.

Applicants: AEP Texas Inc.

Description: § 205(d) Rate Filing: AEPTX-Tres Bahias Solar Power 1st A&R Generation Interconnection Agreement to be effective 8/4/2022.

Filed Date: 8/29/22.

Accession Number: 20220829-5048.

Comment Date: 5 p.m. ET 9/19/22.

Docket Numbers: ER22-2738-000.

Applicants: Southwestern Public Service Company.

Description: § 205(d) Rate Filing: 2022-08-29 GSEC-SPEC-Leprino-IA-744-0.0.0 to be effective 8/30/2022.

Filed Date: 8/29/22.

Accession Number: 20220829-5099.

Comment Date: 5 p.m. ET 9/19/22.

Docket Numbers: ER22-2739-000.

Applicants: Tri-State Generation and Transmission Association, Inc.

Description: § 205(d) Rate Filing: Initial Filing of Rate Schedule FERC No. 347 to be effective 8/16/2022.

Filed Date: 8/29/22.

Accession Number: 20220829-5110.

Comment Date: 5 p.m. ET 9/19/22.

Docket Numbers: ER22-2740-000.

Applicants: Tri-State Generation and Transmission Association, Inc.

Description: Tariff Amendment: Notice of Cancellation of Rate Schedule FERC No. 327 to be effective 8/16/2022.

Filed Date: 8/29/22.

Accession Number: 20220829-5112.

Comment Date: 5 p.m. ET 9/19/22.

Take notice that the Commission received the following electric securities filings:

Docket Numbers: ES22-63-000.

Applicants: Montana-Dakota Utilities Co.

Description: Application Under section 204 of the Federal Power Act for Authorization to Issue Securities of Montana-Dakota Utilities Co.

Filed Date: 8/26/22.

Accession Number: 20220826-5201.

Comment Date: 5 p.m. ET 9/16/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5 p.m. eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 29, 2022.
Debbie-Anne A. Reese,
Deputy Secretary.

[FR Doc. 2022-19048 Filed 9-1-22; 8:45 am]

BILLING CODE 6717-01-P